MEDICARE PAYMENT ADVISORY COMMISSION

Commission Meeting

AGENCY: Medicare Payment Advisory Commission.

ACTION: Notice of meeting.

SUMMARY: The Commission will hold its next public meeting on Thursday, September 14, 2000, and Friday, September 15, 2000, at the Ronald Reagan Building, International Trade Center, 1300 Pennsylvania Avenue, NW, Washington, DC. The meeting is tentatively scheduled to begin at 10 a.m. on September 14, and 9:00 a.m. on September 15.

Topics for discussion include: quality standards for Medicare+Choice, update on Medicare+Choice plan withdrawals and the approval of the private fee-for-service plan, risk adjustment in Medicare+Choice, risk adjustment for the frail elderly, options for accelerating the buy-down of beneficiary coinsurance under the outpatient prospective payment system (PPS), consistency of physician payments and actual practice expenses, indicators for evaluating Medicare payment policies, update on the post-acute care PPSs, defining access and options to improve monitoring, approaches for measuring access to home health services under the new PPS, and special payment provisions for rural providers.

Agendas will be mailed on September 5, 2000. The final agenda will be available on the Commission's website (www.MedPAC.gov)

ADDRESSES: MedPac's address is: 1730 K Street, NW, Suite 800, Washington, DC 20006. The telephone number is (202) 653-7220.

FOR FURTHER INFORMATION CONTACT: Diane Ellison, Office Manager, (202) 653-7220.

Murray N. Ross,
Executive Director.

[FR Doc. 00-22869 Filed 9-6-00; 8:45 am]

BILLING CODE 6820-BW-M